NUCLEAR REGULATORY COMMISSION

[NRC-2022-0119]

Regulatory Issue Summary: Personnel Access Authorization Requirements for Non-Immigrant Foreign Nationals Working at Nuclear Power Plants

AGENCY: Nuclear Regulatory Commission.

ACTION: Notice; issuance.

SUMMARY: The U.S. Nuclear Regulatory Commission (NRC) is issuing Regulatory Issue Summary (RIS) 2026-01, “Personnel Access Authorization Requirements For Non-Immigrant Foreign Nationals Working At Nuclear Power Plants,” to remind licensees of the NRC requirement that prior to granting or reinstating unescorted access (UA) or certifying unescorted access authorization (UAA) to non-immigrant foreign nationals for the purpose of performing work, licensees shall validate that the foreign national's claimed non immigration status is correct.

DATES: The RIS is available as of February 9, 2026.

ADDRESSES: Please refer to Docket ID NRC-2022-0119 when contacting the NRC about the availability of information regarding this document. You may obtain publicly available information related to this document using any of the following methods:

• Federal Rulemaking Website: Go to https://www.regulations.gov and search for Docket ID NRC-2022-0119. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

This RIS is also available on the NRC's public website at https://www.nrc.gov/reading-rm/doc-collections/gen-comm/reg-issues/ (select “2026” and then select “2026-01”).

FOR FURTHER INFORMATION CONTACT: Brad Baxter, Office of Nuclear Security and Incident Response, U.S. Nuclear Regulatory Commission, Washington, DC 20555-0001; telephone: 301-287-3615; email: Brad.Baxter@nrc.gov.

SUPPLEMENTARY INFORMATION: The NRC published notices of opportunity for public comment on this RIS in the Federal Register (85 FR 17770 and 87 FR 35798) on March 31, 2020 and June 13, 2022, respectively. The agency received comments from seven commenters. The staff considered all comments, which resulted in the publication of the updated draft RIS on April 18, 2025 (ADAMS under Accession No. ML25083A260). Since the publication of the updated draft RIS on April 18, 2025, and a public meeting on April 28, 2025, staff received additional feedback from licensees regarding the need to address circumstances where results from the Department of Homeland Security's Systematic Alien Verification for Entitlements program may indicate that an individual is not employment eligible, but where they are still authorized to conduct business. To address these concerns, the staff added an additional footnote to the RIS (Footnote 2 in the final draft) as well as provided a clarifying paragraph for instances where a licensee may identify other methods for validation by “evaluating an accumulation of information.” This includes situations where licensees need to manage exigent circumstances, permitting access through other means available in accordance with NRC regulations.

The evaluation of these comments and the resulting changes to the RIS are discussed in a publicly available document found in ADAMS under Accession No. ML25155A903.

RIS 2026-01, “Personnel Access Authorization Requirements for Non-Immigrant Foreign Nationals Working at Nuclear Power Plants,” is available in ADAMS under Accession No. ML25155B213.

Executive Order 12866

The Office of Information and Regulatory Affairs determined that this RIS is not a significant regulatory action under E.O. 12866.

(Authority: 42 U.S.C. 2011 et seq.)

Dated: February 4, 2026.
For the Nuclear Regulatory Commission.
Brian Benney,
Acting Chief, Generic Communications and Operating Experience Branch, Division of Reactor Oversight, Office of Nuclear Reactor Regulation.

[FR Doc. 2026-02482 Filed 2-6-26; 8:45 am]

BILLING CODE 7590-01-P